FEDERAL COMMUNICATIONS COMMISSION

Radio Broadcasting Services; AM or FM Proposals To Change the Community of License

AGENCY: Federal Communications Commission.

ACTION: Notice.

SUMMARY: The following applicants filed AM or FM proposals to change the community of license: AIREN BROADCASTING COMPANY, BMPH-20070406ADL, Station NEW, Facility ID 166019, From WELLS, NV, To SPRING CREEK, NV; AMERICAN EDUCATIONAL BROADCASTING, INC., BPED-20070328AEY, Station KVLW, Facility ID 86324, From WACO, TX, To GATESVILLE, TX; AMERICAN FAMILY ASSOCIATION, BMPED-20070405AAN, Station KCAI, Facility ID 90917, From KINGMAN, AZ, To CONGRESS, AZ; BUSTOS MEDIA OF COLORADO LICENSE CORP., BPH-20070305ACZ, Station KGDQ, Facility ID 70822, From COLORADO SPRINGS, CO, To CENTENNIAL, CO; CALVARY CHAPEL OF TWIN FALLS, INC., BMPED-20070328AFA, Station KAWS, Facility ID 8417, From BOISE, ID, To MARSING, ID; CHAPIN ENTERPRISES, LLC, BPH-20070412AAV, Station KRKR, Facility ID 54707, From LINCOLN, NE, To VALLEY, NE; CLEAR CHANNEL BROADCASTING LICENSES, INC., BMPH-20070119AEB, Station KRVK, Facility ID 88406, From MIDWEST, WY, To VISTA WEST, WY; CLEAR CHANNEL BROADCASTING LICENSES, INC., BPH-20070312ABO, Station WLDI, Facility ID 2680, From FORT PIERCE, FL, To JUNO BEACH, FL; COMMONWEALTH BROADCASTING, LLC, BPH-20070328AEJ, Station KSXY, Facility ID 72925, From MIDDLETOWN, CA, To GEYSERVILLE, CA; DAYTON PUBLIC RADIO, INC., BPED-20070330BGF, Station WDPR, Facility ID 61582, From WEST CARROLLTON, OH, To DAYTON, OH; EDUCATIONAL MEDIA FOUNDATION, BPED-20070328ACO, Station WVRI, Facility ID 122298, From PAVO, GA, To NASHVILLE, GA; EDUCATIONAL MEDIA FOUNDATION, BPED-20070328ACQ, Station KLZV, Facility ID 89509, From STERLING, CO, To BRUSH, CO; EDUCATIONAL MEDIA FOUNDATION, BPH-20070328AEP, Station KYAR, Facility ID 36844, From GATESVILLE, TX, To LORENA, TX; EDUCATIONAL MEDIA FOUNDATION, BMPED-20070328AFN, Station WZRL, Facility ID 85072, From WADE, NC, To NEWTON GROVE, NC; EDUCATIONAL MEDIA FOUNDATION, BPED-20070328AGR, Station KLVR, Facility ID 18801, From SANTA ROSA, CA, To MIDDLETOWN, CA; EDUCATIONAL MEDIA FOUNDATION, BMPED-20070403ACJ, Station KPKL, Facility ID 90732, From BUNKIE, LA, To IOTA, LA; EDUCATIONAL MEDIA FOUNDATION, BPED-20070417AAO, Station KARQ, Facility ID 90988, From EAST SONORA, CA, To SAN ANDREAS, CA; FIRST BROADCASTING CAPITAL PARTNERS, LLC, BPH-20070313ABW, Station WAOL, Facility ID 56226, From RIPLEY, OH, To AMELIA, OH; GENESIS LICENSE SUBSIDIARY LLC, BPED-20070213AAP, Station WGES-FM, Facility ID 76516, From KEY LARGO, FL, To CUTLER BAY, FL; GEORGIA-CAROLINA RADIOCASTING COMPANY, LLC, BPH-20070413AGU, Station WLVX, Facility ID 84470, From ELBERTON, GA, To SPARTA, GA; GLADES MEDIA COMPANY LLP, BMPH-20070119AES, Station WAFC-FM, Facility ID 24230, From CLEWISTON, FL, To PALM BEACH GARDENS, FL; GROSS COMMUNICATIONS CORPORATION, BPH-20070416AAU, Station WLOQ, Facility ID 25403, From WINTER PARK, FL, To WINDERMERE, FL; HAWKEYE COMMUNICATIONS, INC., BPH-20070411ACX, Station KCSI, Facility ID 26456, From RED OAK, IA, To TREYNOR, IA; JACKSON COUNTY BROADCASTING, INC., BPH-20070405ABF, Station WKOV-FM, Facility ID 29691, From WELLSTON, OH, To FRAZEYSBURG, OH; MATINEE RADIO, LLC, BMPH-20070328ABY, Station KKUL-FM, Facility ID 164216, From GROVETON, TX, To CAMDEN, TX; MIRIAM MEDIA, INC., BNPH-20070410ADM, Station NEW, Facility ID 170983, From BALLINGER, TX, To MILES, TX; NORTH ALABAMA EDUCATIONAL FOUNDATION, BMPED-20070402JTH, Station KCKR, Facility ID 83852, From KAPLAN, LA, To CHURCH POINT, LA; PRINCIPLE BOSTON HOLDCO, BP-20070307AAX, Station WESX, Facility ID 49301, From SALEM, MA, To SAUGUS, MA; RADIOACTIVE, LLC, BMPH-20070122AAK, Station NEW, Facility ID 164249, From DANNEMORA, NY, To AU SABLE, NY; REUNION BROADCATING LLC, BMP-20070330AYT, Station KMUR, Facility ID 59978, From PRYOR, OK, To CATOOSA, OK; ROYAL COMUNICATIONS OF WASHINGTON, BMPH-20070327ADA, Station KFFR, Facility ID 83397, From PULLMAN, WA, To LAPWAI, ID; RUNNYMEDE, INC., BPH-20070323ADB, Station WNKO, Facility ID 57936, From NEWARK, OH, To NEW ALBANY, OH; SIERRA H BROADCASTING, INC., BPH-20070330BLN, Station KNRJ, Facility ID 55425, From PAYSON, AZ, To CORDES LAKES, AZ; SMOKE AND MIRRORS, LLC, BPH-20070330BLP, Station KRRK, Facility ID 38314, From LAKE HAVASU CITY, AZ, To DESERT HILLS, AZ; STEVEN R. BARTHOLOMEW, BMPH-20070320AAC, Station KJQY, Facility ID 164269, From LA VETA, CO, To COLORADO CITY, CO; URBAN RADIO LICENSES, LLC, BPH-20070328AGD, Station WACR-FM, Facility ID 65200, From ABERDEEN, MS, To COLUMBUS AFB, MS; WAY-FM MEDIA GROUP, INC., BPED-20070411AAM, Station WAYM, Facility ID 58421, From COLUMBIA, TN, To SPRING HILL, TN.

DATES: Comments may be filed through July 23, 2007.

ADDRESSES: Federal Communications Commission, 445 Twelfth Street, SW., Washington, DC 20554.

FOR FURTHER INFORMATION CONTACT: Tung Bui, 202-418-2700.

SUPPLEMENTARY INFORMATION: The full text of these applications is available for inspection and copying during normal business hours in the Commission's Reference Center, 445 12th Street, SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street, SW., Room CY-B402, Washington, DC 20554, telephone 1-800-378-3160 or www.BCPIWEB.com.

Federal Communications Commission.
James D. Bradshaw,
Deputy Chief, Audio Division Media Bureau.

[FR Doc. E7-9864 Filed 5-22-07; 8:45 am]

BILLING CODE 6712-01-P